DEPARTMENT OF STATE

[Public Notice: 11151]

Determination Pursuant to The Foreign Missions Act

Pursuant to the authority vested in the Secretary of State by the laws of the United States including the Foreign Missions Act (22 U.S.C. 4301 et seq.) and delegated from the Under Secretary for Management pursuant to the Delegation of Authority No. 484, dated May 26, 2020, I hereby determine that the representative offices and operations in the United States of the following entities:

1. China Central Television (CCTV)

2. The People's Daily

3. Global Times

4. China News Service

including their real property and personnel, are foreign missions within the meaning of 22 U.S.C. 302(a)(3).

Furthermore, I hereby determine it to be reasonably necessary to protect the interests of the United States to require the representative offices and operations in the United States of the above noted entities, and their agents or employees acting on their behalf, to comply with the terms and conditions specified by the Department of State's Office of Foreign Missions relating to the above noted entities' activities in the United States.

Finally, I determine that the requirements established by Designation 2020-2, dated June 5, 2020, will not be applied to the above-named entities unless and until further notice.

Clifton C. Seagroves,
Principal Deputy Director, Office of Foreign Missions, Department of State.

[FR Doc. 2020-14440 Filed 7-2-20; 8:45 am]

BILLING CODE 4710-43-P